DEPARTMENT OF THE TREASURY

Customs Service

[T.D. 01-39]

Customs Broker License Cancellations

AGENCY: U.S. Customs Service, Department of the Treasury.

I, as Assistant Commissioner, Office of Field Operations, pursuant to section 641 of the Tariff Act of 1930, as amended (19 U.S.C. 1641), and the Customs Regulations (19 CFR 111), hereby cancel the following customs brokers' licenses based on the authority as annotated:

Name | Port | License No. | Authority
S. Stern Custom Brokers, Inc. | New York | 04203 | 19 CFR 111.51(a)
Lawrence J. Cullen & Assoc., Inc. | New York | 12700 | 19 CFR 111.51(a)

Dated: May 8, 2001.
Bonni G. Tischler,
Assistant Commissioner, Office of Field Operations.

[FR Doc. 01-12204 Filed 5-14-01; 8:45 am]

BILLING CODE 4820-02-P